DEPARTMENT OF THE INTERIOR

Bureau of Indian Affairs

Final Environmental Impact Statement for Drought Management Planning at the Kerr Hydroelectric Project, Flathead Lake, MT

AGENCY: Bureau of Indian Affairs, Interior.

ACTION: Notice of availability.

SUMMARY: In accordance with the National Environmental Policy Act (NEPA), the Bureau of Indian Affairs (BIA) provides this notice that the Final Environmental Impact Statement (FEIS) for Drought Management Planning at the Kerr Hydroelectric Project, Flathead Lake, Montana, is now available for public review and comment.

DATES: The BIA will issue a final decision on drought management planning at the Kerr Hydroelectric Project no sooner than 30 days following the publication date of this notice. Thus, any comments on the FEIS must arrive by May 17, 2010.

ADDRESSES: You may mail or hand-carry written comments to: Mr. Bob Dach, Hydropower Program Manager, Bureau of Indian Affairs, 911 NE 11th Avenue, Portland, OR 97232. You may e-mail written comments to: robert.dach@bia.gov. See the SUPPLEMENTARY INFORMATION section of this notice for locations where the FEIS will be available for review and instructions for submitting comments.

FOR FURTHER INFORMATION CONTACT: Mr. Bob Dach, Hydropower Program Manager, Bureau of Indian Affairs, telephone: (503) 231-6711; e-mail: robert.dach@bia.gov.

SUPPLEMENTARY INFORMATION: This FEIS finalizes the draft document, titled Drought Management Plan and Environmental Impact Statement, for which notice was provided in the Federal Register on July 26, 2006 (71 FR 42415).

The Kerr Hydroelectric Project (Project) is located at river mile 72.0 on the Flathead River, just downstream from Flathead Lake. The Project is within the Flathead Indian Reservation and is operated pursuant to a July 17, 1985, license order issued jointly to PPL Montana, LLC (successor-in-interest to the Montana Power Company) and the Confederated Salish and Kootenai Tribes (Tribes).

The license contains specific operating requirements governing, among other things, lake levels (Article 43) and minimum stream flows (Article 56). Minimum stream flows were required by the Secretary of the Interior (Secretary) pursuant to his authority under section 4(e) of the Federal Power Act (16 U.S.C. 797(e)) to protect natural resources important to the Tribes.

During drought years, the available water supply may not be sufficient to provide minimum stream flows while maintaining Flathead Lake levels. As such, the Secretary also required the licensees to develop a Drought Management Plan (DMP) (Article 60) in an effort both to avoid and resolve potential water use conflicts that may arise under drought conditions. PPL Montana submitted a proposed DMP to the Secretary on March 4, 2002. Under Article 60, the Secretary has the sole authority to reject, modify, or otherwise alter the proposed DMP.

Issues addressed in the DEIS included, but were not limited to, effects on hydroelectric power production, recreation, tourism, irrigation, flooding, treaty-protected fisheries, biological resources, wildlife habitat, and Indian traditional and cultural properties and resources. Alternatives to the licensees' proposed DMP were also evaluated in the DEIS. The FEIS refines the environmental analyses based on comments received on the DEIS from State and Federal agencies, other project stakeholders, and the public.

A final decision regarding the framework and requirements of a DMP will be included in a Record of Decision (ROD), expected to be complete by Spring 2010. The ROD will identify the specific actions and procedures that must be included in the final DMP and will state specifically the next steps required by PPL Montana and the Tribes in finalizing the plan. Neither this EIS nor the ROD will include a “stand alone” DMP as required by the license (Article 60), although the ROD will have all of the fundamental components required to be included in the final plan specifically identified. Finalizing the DMP in this manner should facilitate integration of DMP requirements with Kerr Project operational requirements that are best addressed by the licensees. We anticipate that the final DMP will be developed by PPL Montana and the Tribes in consultation with the U.S. Army Corps of Engineers, Bureau of Reclamation, and BIA, and filed with the Federal Energy Regulatory Commission by Fall 2010.

Directions for Submitting Comments: To submit comments on the FEIS, please include your name, return address and the caption “FEIS Comments, Drought Management Planning at the Kerr Hydroelectric Project” on the first page of your written comments.

Directions for Obtaining Review of the FEIS: Copies of the FEIS will be mailed to individuals, agencies, organizations, and companies identified in the Draft EIS. Electronic copies of the FEIS are available upon request by contacting the person listed in the FOR FURTHER INFORMATION CONTACT section of this notice. The document is available electronically at: http://www.flatheadlake-eis.com/. Copies of the FEIS will also be available for review at the following locations in Montana:

• Polson City Library, 21st Avenue East, Polson, MT 59860.

• Flathead County Library, 247 1st Avenue East, Kalispell, MT 59901.

Public Availability of Comments: Before including your address, phone number, e-mail address, or other personal identifying information in your comment, you should be aware that your entire comment—including your personal identifying information—may be made publicly available at any time. While you can ask us in your comment to withhold your personal identifying information from public review, we cannot guarantee that we will be able to do so.

Authority: This notice is published in accordance with section 1503.1 of the Council on Environmental Quality Regulations (40 CFR parts 1500 through 1508) implementing the procedural requirements of the National Environmental Policy Act of 1969, as amended (42 U.S.C. 4371 et seq.) and the Department of the Interior Manual (516 DM 1-6), and is in the exercise of authority delegated to the Assistant Secretary—Indian Affairs by 209 DM 8.

Dated: March 26, 2010.
George T. Skibine,
Deputy Assistant Secretary—Indian Affairs.

[FR Doc. 2010-8512 Filed 4-15-10; 8:45 am]

BILLING CODE 4310-W7-P